POSTAL SERVICE BOARD OF GOVERNORS

Sunshine Act Meeting; Certification Regarding Closed Meeting of the United States Postal Service Board of Governors

Pursuant to 5 U.S.C. Section 552b(f)(1) and 39 CFR Section 7.6(a), I, Mary Anne Gibbons, General Counsel of the United States Postal Service, hereby certify that in my opinion the special meeting of the Board of Governors to be held on September 22, 2000, may be properly closed to the public pursuant to the provisions of section 552b(c)(9)(B), 10(A) of title 5, United States Code; and section 7.3(i), (j) of title 39, Code of Federal Regulations.

The members will consider: (1) Priority Mail Processing Centers contract.

Dated: September 21, 2000.
Mary Anne Gibbons,
General Counsel.

[FR Doc. 00-24857 Filed 9-22-00; 3:46 pm]

BILLING CODE 7710-12-M